DEPARTMENT OF THE INTERIOR

Bureau of Land Management

[LLNM940000. L1420000.BJ0000]

Notice of Filing of Plats of Survey, New Mexico

AGENCY: Bureau of Land Management, Interior.

ACTION: Notice of filing of Plats of Survey.

SUMMARY: The plats of survey described below are scheduled to be officially filed in the New Mexico State Office, Bureau of Land Management, Santa Fe, New Mexico, thirty (30) calendar days from the date of this publication.

SUPPLEMENTARY INFORMATION:

New Mexico Principal Meridian, New Mexico (NM)

The plat, in five sheets, representing the dependent resurvey and survey, in Township 18 South, Range 12 West, of the New Mexico Principal Meridian, accepted March 8, 2012, for Group 1104 NM.

The supplemental plat, creating new lots in section 5, in Township 18 South, Range 12 West, of the New Mexico Principal Meridian NM, accepted March 15, 2012.

The supplemental plat, creating new lots in section 6, in Township 18 South, Range 12 West, of the New Mexico Principal Meridian NM, accepted March 15, 2012.

The supplemental plat, creating new lots in section 4, in Township 18 South, Range 12 West, of the New Mexico Principal Meridian NM, accepted March 15, 2012.

The supplemental plat, creating new lots in section 3, in Township 18 South, Range 12 West, of the New Mexico Principal Meridian NM, accepted March 15, 2012.

The plat, in ten sheets, representing the dependent resurvey and survey, in Township 17 South, Range 12 West, of the New Mexico Principal Meridian, accepted March 8, 2012, for Group 1104 NM.

The supplemental plat, creating new lots in section3, in Township 17 South, Range 12 West, of the New Mexico Principal Meridian NM, accepted March 15, 2012.

The supplemental plat, creating new lots in section 4, in Township 17 South, Range 12 West, of the New Mexico Principal Meridian NM, accepted March 15, 2012.

The supplemental plat, creating new lots in section 9, in Township 17 South, Range 12 West, of the New Mexico Principal Meridian NM, accepted March 15, 2012.

The supplemental plat, creating new lots in section 15, in Township 17 South, Range 12 West, of the New Mexico Principal Meridian NM, accepted March 15, 2012.

The supplemental plat, creating new lots in section 10, in Township 17 South, Range 12 West, of the New Mexico Principal Meridian NM, accepted March 15, 2012.

The supplemental plat, creating new lots in section 16, in Township 17 South, Range 12 West, of the New Mexico Principal Meridian NM, accepted March 15, 2012.

The supplemental plat, creating new lots in section 20, in Township 17 South, Range 12 West, of the New Mexico Principal Meridian NM, accepted March 15, 2012.

The supplemental plat, creating new lots in section 21, in Township 17 South, Range 12 West, of the New Mexico Principal Meridian NM, accepted March 15, 2012.

The supplemental plat, creating new lots in section 22, in Township 17 South, Range 12 West, of the New Mexico Principal Meridian NM, accepted March 15, 2012.

The supplemental plat, creating new lots in section 23, in Township 17 South, Range 12 West, of the New Mexico Principal Meridian NM, accepted March 15, 2012.

The supplemental plat, creating new lots in section 27, in Township 17 South, Range 12 West, of the New Mexico Principal Meridian NM, accepted March 15, 2012.

The supplemental plat, creating new lots in section 28, in Township 17 South, Range 12 West, of the New Mexico Principal Meridian NM, accepted March 15, 2012.

The supplemental plat, creating new lots in section 29, in Township 17 South, Range 12 West, of the New Mexico Principal Meridian NM, accepted March 15, 2012.

The supplemental plat, creating new lots in section 30, in Township 17 South, Range 12 West, of the New Mexico Principal Meridian NM, accepted March 15, 2012.

The supplemental plat, creating new lots in section 31, in Township 17 South, Range 12 West, of the New Mexico Principal Meridian NM, accepted March 15, 2012.

The supplemental plat, creating new lots in section 32, in Township 17 South, Range 12 West, of the New Mexico Principal Meridian NM, accepted March 15, 2012.

The supplemental plat, creating new lots in section 33, in Township 17 South, Range 12 West, of the New Mexico Principal Meridian NM, accepted March 15, 2012.

The supplemental plat, creating new lots in section 35, in Township 17 South, Range 12 West, of the New Mexico Principal Meridian NM, accepted March 15, 2012.

FOR FURTHER INFORMATION CONTACT: These plats will be available for inspection in the New Mexico State Office, Bureau of Land Management, 301 Dinosaur Trail, Santa Fe, New Mexico. Copies may be obtained from this office upon payment. Contact Marcella Montoya at 505-954-2097, or by email at Marcella_Montoya@nm.blm.gov, for assistance. Persons who use a telecommunications device for the deaf (TDD) may call the Federal Information Relay Service (FIRS) at 1-800-877-8339 to contact the above individual during normal business hours.

These plats are scheduled for official filing 30 days from the notice of publication in the Federal Register, as provided for in the BLM Manual Section 2097—Opening Orders. Notice from this office will be provided as to the date of said publication. If a protest against a survey, in accordance with 43 CFR 4.450-2, of the above plats is received prior to the date of official filing, the filing will be stayed pending consideration of the protest.

A plat will not be officially filed until the day after all protests have been dismissed and become final or appeals from the dismissal affirmed.

A person or party who wishes to protest against any of these surveys must file a written protest with the Bureau of Land Management New Mexico State Director stating that they wish to protest.

A statement of reasons for a protest may be filed with the Notice of protest to the State Director or the statement of reasons must be filed with the State Director within thirty (30) days after the protest is filed.

Robert A. Casias,
Deputy State Director, Cadastral Survey/GeoSciences.

[FR Doc. 2012-8312 Filed 4-5-12; 8:45 am]

BILLING CODE 4310-FB-P